DEPARTMENT OF COMMERCE

International Trade Administration

[A-560-838]

Polyester Textured Yarn From Indonesia: Final Affirmative Determination of Sales at Less Than Fair Value

AGENCY: Enforcement and Compliance, International Trade Administration, Department of Commerce.

SUMMARY: The Department of Commerce (Commerce) determines that polyester textured yarn from Indonesia is being, or is likely to be, sold in the United States at less than fair value (LTFV). The period of investigation is October 1, 2019, through September 30, 2020.

DATES: Applicable October 25, 2021.

FOR FURTHER INFORMATION CONTACT: Toni Page or Peter Shaw, AD/CVD Operations, Office VII, Enforcement and Compliance, International Trade Administration, U.S. Department of Commerce, 1401 Constitution Avenue NW, Washington, DC 20230; telephone: (202) 482-1398 or (202) 482-0697, respectively.

SUPPLEMENTARY INFORMATION:

Background

On June 3, 2021, Commerce published in the Federal Register its Preliminary Determination of sales of polyester textured yarn from Indonesia at LTFV.¹ Commerce invited interested parties to comment on the Preliminary Determination.

¹ See Polyester Textured Yarn from Indonesia: Preliminary Affirmative Determination of Sales at Less Than Fair Value, Postponement of Final Determination, and Extension of Provisional Measures, 86 FR 29742 (June 3, 2021) (Preliminary Determination), and accompanying Preliminary Decision Memorandum (PDM).

For a complete description of the events that followed the Preliminary Determination, see the Issues and Decision Memorandum.²

² See Memorandum, “Polyester Textured Yarn from Indonesia: Issues and Decision Memorandum for the Final Affirmative Determination of Sales at Less Than Fair Value Investigation,” dated concurrently with, and hereby adopted by, this notice (Issues and Decision Memorandum).

The Issues and Decision Memorandum is a public document and is available electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope Comments

On May 26, 2021, we issued a Preliminary Scope Decision Memorandum.³ The scope case briefs were due on July 9, 2021.⁴ We did not receive any scope case briefs from interested parties. Therefore, Commerce has not made any changes to the scope of this investigation since the Preliminary Determination.

³ See Memorandum, “Antidumping Duty Investigations of Polyester Textured Yarn from Indonesia, Malaysia, Thailand, and Vietnam: Preliminary Scope Decision Memorandum,” dated May 26, 2021 (Preliminary Scope Decision Memorandum).

⁴ The scope case briefs were due “no later than 15 days after the responses to the scope supplemental questionnaires on intermingled textured yarn are filed.” Id. at 3. The last scope supplemental response was submitted on June 24, 2021. See Recron (Malaysia) Sdn. Bhd.'s Letter, “Scope Supplemental Questionnaire Response,” dated June 24, 2021.

Scope of the Investigation

The product covered by this investigation is polyester textured yarn from Indonesia. For a complete description of the scope of this investigation, see Appendix I.

Verification

Commerce was unable to conduct on-site verification of the information relied upon in making its final determination in this investigation. However, we took additional steps in lieu of an on-site verification to verify the information relied upon in making this final determination, in accordance with section 782(i) of the Tariff Act of 1930, as amended (the Act).⁵

⁵ See Commerce's Letters, ” Revised In Lieu of Verification Questionnaire for PT. Asia Pacific Fibers Tbk in the Antidumping Duty Investigation of Polyester Textured Yarn from Indonesia,” dated August 4, 2021; and “Revised in Lieu of Verification Questionnaire for PT. Mutu Gading Tekstil in the Antidumping Duty Investigation of Polyester Textured Yarn from Indonesia,” dated August 4, 2021; see also PT. Asia Pacific Fibers Tbk's Letter, “Polyester Textured Yarn from Indonesia: Submission of Response to the Revised Questionnaire in Lieu of Verification,” dated August 13, 2021; and PT. Mutu Gading Tekstil's Letter, “Polyester Textured Yarn from Indonesia: Submission of Response to Revised in Lieu of Verification Questionnaire,” dated August 13, 2021.

Analysis of Comments Received

All issues raised in the case and rebuttal briefs by parties in this investigation are discussed in the Issues and Decision Memorandum, which is hereby adopted by this notice. A list of the issues raised in the Issues and Decision Memorandum is attached to this notice as Appendix II.

Changes From the Preliminary Determination

Based on our analysis of the comments received from interested parties, we made certain changes to the dumping margin calculations for PT. Asia Pacific Fibers Tbk (Asia Pacific), PT. Mutu Gading Tekstil (Mutu Gading), and the All-Others rate. For a discussion of these changes, see the Issues and Decision Memorandum.

Use of Facts Available and Adverse Facts Available

We find that the use of facts available is warranted in determining the rate for mandatory respondent PT. Polyfin Canggih (Polyfin), pursuant to sections 776(a)(1) and (2)(A)-(C) of the Act, and the rate for mandatory respondent Asia Pacific, pursuant to sections 776(a)(1) and (2)(A)-(D) of the Act.⁶ Further, use of adverse facts available is warranted with respect to Polyfin and Asia Pacific because these two mandatory respondents did not cooperate to the best of their ability to comply with our requests for information and, accordingly, we applied adverse inferences in selecting from the facts available, pursuant to section 776(b) of the Act and 19 CFR 351.308(a).

⁶ See Issues and Decision Memorandum at “Use of Adverse Facts Available.”

All-Others Rate

Section 735(c)(5)(A) of the Act provides that the estimated weighted-average dumping margin for all other producers and exporters not individually investigated shall be equal to the weighted average of the estimated weighted-average dumping margins established for individually investigated exporters and producers, excluding rates that are zero, de minimis, or determined entirely under section 776 of the Act.

Commerce calculated an individual estimated weighted-average dumping margin for Mutu Gading but is using an adverse facts available rate for Asia Pacific and Polyfin. Therefore, the only rate which is not zero, de minimis, or determined entirely under section 776 of the Act is the rate calculated for Mutu Gading. Consequently, the rate calculated for Mutu Gading is also assigned as the rate for all other producers and exporters.

Final Determination

Commerce determines that the following estimated weighted-average dumping margins exist:

Producer or exporter | Estimated weighted- average dumping margin (percent)
PT. Polyfin Canggih | * 26.07
PT. Asia Pacific Fibers Tbk | * 26.07
PT. Mutu Gading Tekstil | 7.47
All Others | 7.47
* Adverse Facts Available (AFA).

Disclosure

Commerce intends to disclose its calculations and analysis performed to interested parties in this final determination within five days of any public announcement or, if there is no public announcement, within five days of the date of publication of this notice in accordance with 19 CFR 351.224(b).

Continuation of Suspension of Liquidation

In accordance with section 735(c)(1)(B) of the Act, Commerce will instruct U.S. Customs and Border Protection (CBP) to continue to suspend liquidation of all entries of polyester textured yarn from Indonesia, as described in Appendix I of this notice, which were entered or withdrawn from warehouse for consumption on or after June 3, 2021, the date of publication of the Preliminary Determination of this investigation in the Federal Register.

Pursuant to section 735(c)(1)(B)(ii) of the Act, upon the publication of this notice, Commerce will instruct CBP to require a cash deposit equal to the estimated weighted-average dumping margin or the estimated all-others rate, as follows: (1) The cash deposit rate for the respondents listed above will be equal to the company-specific estimated weighted-average dumping margins determined in this final determination; (2) if the exporter is not a respondent identified above, but the producer is, then the cash deposit rate will be equal to the company-specific estimated weighted-average dumping margin established for that producer of the subject merchandise; and (3) the cash deposit rate for all other producers and exporters will be equal to the all-others estimated weighted-average dumping margin. These suspension of liquidation instructions will remain in effect until further notice.

International Trade Commission Notification

In accordance with section 735(d) of the Act, we will notify the International Trade Commission (ITC) of our final affirmative determination of sales at LTFV. Because the final determination in this investigation is affirmative, in accordance with section 735(b)(2) of the Act, the ITC will make its final determination as to whether the domestic industry in the United States is materially injured, or threatened with material injury, by reason of imports of subject merchandise from Indonesia no later than 45 days after our final determination. If the ITC determines that such injury does not exist, this proceeding will be terminated and all cash deposits posted will be refunded. If the ITC determines that such injury does exist, Commerce will issue an antidumping duty order directing CBP to assess, upon further instruction by Commerce, antidumping duties on all imports of the subject merchandise entered, or withdrawn from warehouse, for consumption on or after the effective date of the suspension of liquidation.

Notification Regarding Administrative Protective Order

This notice serves as a reminder to the parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination is issued and published in accordance with sections 735(d) and 777(i)(1) of the Act, and 19 CFR 351.210(c).

Dated: October 18, 2021.
Ryan Majerus,
Deputy Assistant Secretary for Policy and Negotiations, Performing the Non-Exclusive Functions and Duties of the Assistant Secretary for Enforcement and Compliance.

Appendix I

Scope of the Investigation

The merchandise covered by this investigation, polyester textured yarn, is synthetic multifilament yarn that is manufactured from polyester (polyethylene terephthalate). Polyester textured yarn is produced through a texturing process, which imparts special properties to the filaments of the yarn, including stretch, bulk, strength, moisture absorption, insulation, and the appearance of a natural fiber. This scope includes all forms of polyester textured yarn, regardless of surface texture or appearance, yarn density and thickness (as measured in denier), number of filaments, number of plies, finish (luster), cross section, color, dye method, texturing method, or packaging method (such as spindles, tubes, or beams).

The merchandise subject to this investigation is properly classified under subheadings 5402.33.3000 and 5402.33.6000 of the Harmonized Tariff Schedule of the United States (HTSUS). Although the HTSUS subheadings are provided for convenience and customs purposes, the written description of the merchandise is dispositive.

Appendix II

List of Topics Discussed in the Issues and Decision Memorandum

I. Summary

II. Background

III. Changes Since the Preliminary Determination

IV. Scope of the Investigation

V. Use of Facts Available and Adverse Facts Available

VI. Discussion of the Issues

Comment 1: Whether Total Adverse Facts Available is Warranted Regarding Asia Pacific's Cost Verification Information

Comment 2: Mutu Gading's Reported Control Numbers (CONNUMs)

Comment 3: Mutu Gading's Reported Gross Unit Price

Comment 4: Mutu Gading's Inland Freight Expenses

Comment 5: Mutu Gading's Ocean Freight Expenses

Comment 6: Mutu Gading's Bank Charges

Comment 7: Mutu Gading's Commission Expenses (COMMH)

Comment 8: Mutu Gading's POI Sales Reconciliation

Comment 9: Whether Mutu Gading's Reported Sales are Unreliable and Warrant the Application of Total Adverse Facts Available

Comment 10: Whether Mutu Gading's Reported Costs are Unreliable and Warrant the Application of Total Adverse Facts Available

Comment 11: Whether Commerce Should Use Mutu Gading's Fiscal Year 2019 Financial Statements for the General and Administrative and Interest Expense Ratios

VII. Recommendation

[FR Doc. 2021-23126 Filed 10-22-21; 8:45 am]

BILLING CODE 3510-DS-P